NUCLEAR REGULATORY COMMISSION

[Docket No. 50-293]

Entergy Nuclear Operations, Inc; Pilgrim Nuclear Power Station; Environmental Assessment and Finding of No Significant Impact

The U.S. Nuclear Regulatory Commission (NRC) is considering issuance of an exemption from Title 10 of the Code of Federal Regulations (10 CFR) Part 50, Section 50.75(f)(3), for Facility Operating License No. DPR-35, issued to Entergy Nuclear Operations, Inc. (Entergy or the licensee), for operation of Pilgrim Nuclear Power Station (Pilgrim), located in Plymouth County, MA. Therefore, as required by 10 CFR 51.21, the NRC is issuing this environmental assessment and finding of no significant impact.

Environmental Assessment

Identification of the Proposed Action

The proposed action would allow Entergy to submit the Pilgrim site-specific preliminary decommissioning cost estimate by August 1, 2008, which is less than 4 years from the date of the expiration of the operating license. This is an exemption to the schedule requirement of 10 CFR 50.75(f)(3) which requires that a preliminary decommissioning cost estimate be submitted to the NRC at or about 5 years prior to the projected end of operations. The current expiration date of Pilgrim operating license is June 8, 2012.

The proposed action is in accordance with the licensee's application dated February 28, 2008.

The Need for the Proposed Action

The proposed exemption to the schedule requirement of 10 CFR 50.75(f)(3) is needed to allow Entergy to submit the Pilgrim site-specific preliminary cost estimate, including an up-to-date assessment of major factors that have the potential to impact the cost of decommissioning by August 1, 2008, which is less than 4 years from the date of the expiration of the operating license. The exemption request applies to the timing of the submission of the preliminary cost estimate and did not request an exemption from any of the information requirements of the regulation.

Environmental Impacts of the Proposed Action

The NRC has completed its safety evaluation (SE) of the proposed action and concludes that the preliminary decommissioning cost estimate for Pilgrim is not likely to be higher than the current minimum formula amount to such a degree that a problematic underfunding situation will exist that would require a full 5-year period to rectify. The details of the staff's SE will be provided in the exemption that will be issued as part of the letter to the licensee approving the exemption.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the NRC staff considered denial of the proposed action (i.e., the “no-action” alternative). Denial of the application would result in no change in current environmental impacts. The environmental impacts of the proposed action and the alternative action are similar.

Alternative Use of Resources

The action does not involve the use of any different resources than those previously considered in the Final Environmental Statement for Pilgrim, dated January 1972.

Agencies and Persons Consulted

In accordance with its stated policy, on May 16, 2008, the NRC staff consulted with the Massachusetts State official of the Massachusetts Emergency Management Agency regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 28, 2008, Agencywide Documents Access and Management System (ADAMS) accession number ML081000176. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 30th day of May 2008.
For the Nuclear Regulatory Commission.
James Kim,
Project Manager, Plant Licensing Branch I-1, Division of Operating Reactor Licensing, Office of Nuclear Reactor Regulation.

[FR Doc. E8-12893 Filed 6-6-08; 8:45 am]

BILLING CODE 7590-01-P